DEPARTMENT OF HEALTH AND HUMAN SERVICES

National Institutes of Health

Prospective Grant of Exclusive License: Recombinant Virus Expressing Human Carcinoembryonic Antigen and Methods of Use Thereof

AGENCY: National Institutes of Health, Public Health Service, DHHS.

ACTION: Notice.

SUMMARY: This is notice, in accordance with 35 U.S.C. 209(c)(1) and 37 CFR 404.7(a)(1)(i), that the National Institutes of Health and Human Services is contemplating the grant of an exclusive license to practice the inventions embodied in U.S. Patent Applications S/N 07/695,024 filed on May 6, 1991, S/N 07/879,649 filed on May 6, 1992, S/N 08/198,691 filed on February 18, 1994, and S/N 08/270,106 filed on July 1, 1994 (U.S. Patent 5,698,530 issued on December 16, 1997), entitled “Recombinant Virus Expressing Human Carcinoembryonic Antigen and Methods of Use Thereof,” to Therion Biologics Corporation of Cambridge, Massachusetts. The patent rights in these inventions have been assigned to the United States of America.

The prospective exclusive license territory will be worldwide and the field of use may be limited to the use of recombinant poxviruses, excluding vaccinia and swinepox viruses, expressing the carcinoembryonic antigen (CEA) gene or portions thereof with the aim of eliciting an immunogenic response. The immune response in vivo, elicited after exposure to the recombinant virus, would be directed against malignant cells expressing CEA. The purpose of the prospective license is to develop poxvirus based vaccines directed against cancers expressing CEA.

DATES: Only written comments and/or license applications which are received by the National Institutes of Health on or before July 31, 2000 will be considered.

ADDRESSES: Requests for copies of these patents/patent applications, inquiries, comments and other materials relating to the contemplated exclusive license should be directed to: Elaine F. Gese, M.B.A., Technology Licensing Specialist, Office of Technology Transfer, National Institutes of Health, 6011 Executive Boulevard, Suite 325, Rockville, MD. 20852-3804. Telephone: (301) 496-7056, x282; Facsimile (301) 402-0220; E-mail eg46t@nih.gov.

SUPPLEMENTARY INFORMATION: The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: May 23, 2000.
Jack Spiegel,
Director, Division of Technology Development and Transfer, Office of Technology Transfer.

[FR Doc. 00-13731 Filed 5-31-00; 8:45 am]

BILLING CODE 4140-01-M